FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 16, 2012. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B. Herman, Federal Communications Commission, via the Internet at judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0690.

Title: Section 101.17, Performance Requirements for the 38.0-40.0 GHz Frequency Band.

Form Number: N/A.

Type of Review: Extension of a currently approved collection.

Respondents: Business or other for-profit entities; Not-for-profit institutions; Federal Government and State, Local, or Tribal Government.

Number of Respondents: 67 respondents; 975 responses.

Estimated Time per Response: 2 hours.

Frequency of Response: At 10-year license renewal.

Obligation to Respond: Required to obtain or retain benefits. Statutory authority for this information collection is contained in 47 U.S.C. Sections 4(i), 303(c), 303(f), 303(g), 303(r), and 309(j) of the Communications Act of 1934, as amended.

Total Annual Burden: 1,950 hours.

Total Annual Cost: $260,000.

Privacy Impact Assessment: N/A.

Needs and Uses: The Commission is seeking OMB approval for an extension of this information collection in order to obtain the full three-year approval from them. There are no changes to the reporting requirements. The Commission is reporting a decrease in the number of respondents for this submission to OMB. The number of responses, burden hours and annual costs remain the same as what was reported to OMB in 2009.

Pursuant to 47 CFR 101.17, all 38.6-40.0 GHz band licensees must demonstrate substantial service at the time of license renewal. A licensee's substantial service showing should include but not be limited to, the following information for each channel for which they hold a license, in each Economic Area (EA) or portion of EA covered by their license, in order to qualify for renewal of that license. The information provided will be judged by the Commission to determine whether the licensee is providing service which rises to the level of “substantial”:

(1) A description of the 38.6-40.0 GHz band licensee's current service in terms of geographic coverage;

(2) A description of the 38.6-40.0 GHz band licensee's current service in terms of population served, as well as any additional service provided during the license term; and

(3) A description of the 38.6-40.0 GHz band licensee's investments in its system(s) (type of facilities constructed and their operational status is required).

Any 38.6-40.0 GHz band licensees adjudged not to be providing substantial service will not have their license(s) renewed.

The requirement to demonstrate substantial service happens once every 10 years. Every licensee in this band will have to make a showing in the next three years because of when the licenses were originally issued and our decision to extend the deadline for some licensees. However, the number of respondents that will need to comply with this substantial service requirement of the 47 CFR 101.17 within the period covered by this submission is far less than the Commission originally sought and received OMB approval in 2006.

Without this information the Commission would not be able to carry out its statutory responsibilities.

Federal Communications Commission.
Marlene H. Dortch,
Secretary, Office of the Secretary, Office of Managing Director.

[FR Doc. 2012-3429 Filed 2-14-12; 8:45 am]

BILLING CODE 6712-01-P